DEPARTMENT OF JUSTICE

Notice of Settlement Agreement Under the Park System Resources Protection Act

Under 28 CFR 50.7, notice is hereby given of a proposed settlement agreement, In Re: Bella Vista Restaurant, for the recovery of natural resource damages by the National Park Service (“NPS”), under the Park system Resources Protection Act, 16 U.S.C. 19jj.

The proposed settlement resolves claims against the Bella Vista Restaurant and its owners and insurers (collectively, “Bella Vista”). Bella Vista is located on Skyline Boulevard, in Woodside, California, adjacent to the Phleger Estate portion of Golden Gate National Recreation Area, a unit of the NPS. NPS alleges that in an “Incident” in approximately May of 1999, Bella Vista cut down and “topped” several redwood and other trees in NPS land on the Phleger Estate.

Under the proposed settlement agreement, Bella Vista will pay $195,000 for costs and damages. In exchange, the NPS covenants not to sue Bella Vista for the Incident.

The Department of Justice will receive, for a period of thirty (30) days from the date of this publication, comments relating to the proposed settlement agreement. Comments should be addressed to the Assistant Attorney General, Environment and Natural Resources Division, PO Box 7611, U.S. Department of Justice, Washington, DC 20044-7611, and should refer to In Re: Bella Vista Restaurant, DOJ Ref. # 90-5-1-1-08450.

During the public comment period, the proposed settlement agreement may be examined on the following Department of Justice Web site: www.usdoj.gov/enrd/open.html. A copy of the proposed settlement agreement may also be obtained by mail from the Consent Decree Library, PO Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $0.75 (25 cents per page reproduction cost) payable to the U.S. Treasury, to obtain a copy of the Consent Decree.

Ellen M. Mahan,
Assistant Section Chief, Environmental Enforcement Section, Environment and Natural Resources Division.

[FR Doc. 05-4637 Filed 3-9-05; 8:45 am]

BILLING CODE 4410-15-M